DEPARTMENT OF AGRICULTURE

Animal and Plant Health Inspection Service

9 CFR Part 94

[Docket No. APHIS-2009-0034]

RIN 0579-AD12

Changes in Disease Status of the Brazilian State of Santa Catarina with Regard to Certain Ruminant and Swine Diseases

AGENCY: Animal and Plant Health Inspection Service, USDA.

ACTION: Proposed rule.

SUMMARY: We are proposing to amend the regulations governing the importation of certain animals and animal products by adding the Brazilian State of Santa Catarina to the list of regions we recognize as free of foot-and-mouth disease, rinderpest, swine vesicular disease, classical swine fever, and African swine fever. We are proposing this action at the request of the Government of Brazil and after conducting a risk evaluation that concludes that the Brazilian State of Santa Catarina is free of these diseases. This proposed action would relieve certain restrictions on the importation into the United States of live swine, swine semen, pork meat, pork products, live ruminants, ruminant semen, ruminant meat, and ruminant products from Santa Catarina while continuing to protect against the introduction of these diseases into the United States.

DATES: We will consider all comments that we receive on or before June 15, 2010.

ADDRESSES: You may submit comments by either of the following methods:

• Federal eRulemaking Portal: Go to (http://www.regulations.gov/fdmspublic/component/main?main=DocketDetail&d=APHIS-2009-0034) to submit or view comments and to view supporting and related materials available electronically.

• Postal Mail/Commercial Delivery: Please send two copies of your comment to Docket No. APHIS-2009-0034, Regulatory Analysis and Development, PPD, APHIS, Station 3A-03.8, 4700 River Road Unit 118, Riverdale, MD 20737-1238. Please state that your comment refers to Docket No. APHIS-2009-0034.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Silvia Kreindel, Senior Staff Veterinarian, Regionalization Evaluation Services Staff, National Center for Import and Export, VS, APHIS, 4700 River Road Unit 38, Riverdale, MD 20737; (301) 734-4356 or (301) 734-8419.

SUPPLEMENTARY INFORMATION:

Background

The regulations in 9 CFR part 94 (referred to below as the regulations) govern the importation into the United States of specified animals and animal products in order to prevent the introduction of various animal diseases, including rinderpest, foot-and-mouth disease (FMD), African swine fever (ASF), classical swine fever (CSF), and swine vesicular disease (SVD). These are dangerous and destructive communicable diseases of swine and ruminants.

Section 94.1 of the regulations prohibits, with certain exceptions, the importation into the United States of live swine, live ruminants, and products from these species from regions where FMD or rinderpest is known to exist. Rinderpest or FMD exists in all regions of the world except for certain regions that are listed as free of rinderpest or free of both rinderpest and FMD in § 94.1. Section 94.11 of the regulations lists regions of the world that have been determined to be free of rinderpest and FMD, but that are subject to certain restrictions because of their proximity to or trading relationships with rinderpest- or FMD-affected regions. Section 94.8 of the regulations restricts the importation into the United States of pork and pork products from regions where ASF is known to or reasonably believed to exist. ASF is known to or reasonably believed to exist in those regions of the world listed in § 94.8. Section 94.9 of the regulations restricts the importation into the United States of pork and pork products from regions where CSF is known to exist, and § 94.10 prohibits, with certain exceptions, the importation of live swine from regions where CSF is known to exist. Sections 94.9 and 94.10 provide that CSF exists in all regions of the world except the regions listed in those sections. Section 94.12 of the regulations restricts the importation into the United States of pork and pork products from regions where SVD is known to exist. SVD exists in all regions of the world except for certain regions that are listed as free of SVD in this section.

The Government of Brazil has requested that the U.S. Department of Agriculture (USDA) consider Santa Catarina to be free of rinderpest, FMD, ASF, CSF, and SVD in order to initiate trade in fresh pork. Declaring Santa Catarina to be free of these diseases would relieve restrictions on the importation of not just fresh pork but also additional commodities that could potentially carry these diseases, such as live swine, swine semen, pork meat, pork products, live ruminants, ruminant semen, ruminant meat, and ruminant products. In response to the Government of Brazil’s request, the USDA’s Animal and Plant Health Inspection Service (APHIS) has conducted an evaluation of the disease status of Santa Catarina with regard to FMD, CSF, SVD, and ASF, which included one site visit to Santa Catarina and three site visits to other Brazilian States. The risk evaluation, “APHIS Evaluation of the Status of the Brazilian State of Santa Catarina Regarding Foot-and-Mouth Disease, Classical Swine Fever, Swine Vesicular Disease, and African Swine Fever,” may be obtained by contacting the person listed under FOR FURTHER INFORMATION CONTACT. The document may also be viewed on the Regulations.gov Web site (see ADDRESSES above for instructions for accessing Regulations.gov).

In the risk evaluation, we concluded that Santa Catarina is free of FMD, ASF, CSF, and SVD and has adequate veterinary infrastructures in place to prevent, control, and manage outbreaks of these diseases if they were to occur. Rinderpest was not considered within the scope of the risk evaluation as it is not endemic to the Americas and has never been established within Brazil. We are therefore proposing to amend the regulations by adding Santa Catarina to the list in § 94.1 of regions that are free of rinderpest and FMD, the list in § 94.11 of regions that are declared to be free of rinderpest and FMD but that are subject to certain restrictions because of their proximity to or trading relationships with rinderpest or FMD-affected regions, the lists in §§ 94.9 and 94.10 of regions that are free of CSF, and the list in § 94.12 of regions that are free of SVD. We are also proposing to exclude Santa Catarina from the list in § 94.8 of regions where ASF is known to or reasonably believed to exist.

Risk Evaluation

Drawing on data submitted by the Government of Brazil and observations from our site visit to the region under consideration, we have evaluated the animal health status of Santa Catarina relative to FMD, ASF, CSF, and SVD. Our evaluation was conducted according to the 11 factors identified in § 92.2, “Application for recognition of the animal health status of a region,” which are used to determine the level of risk associated with importing animals or animal products into the United States from a given region. A summary evaluation of each factor is discussed below.

Veterinary Authority and Infrastructure

Federal and State authorities provide the two main structures for Brazil’s veterinary services. Brazil’s Ministry of Agriculture, Livestock, and Food Supply (MAPA), through the Department of Animal Health, has the primary Federal authority governing all animal health programs. MAPA coordinates all aspects of the national animal health system, including developing animal disease control strategies, conducting laboratory diagnosis, and auditing State veterinary services. State personnel are responsible for executing Federal programs, laws, and policies at the State level. The responsibilities of state officials for carrying out Federal programs are outlined in standard operating procedures developed with Federal officials. Additionally, MAPA has a system of official veterinarians and support staff in place for carrying out field programs and for import controls and animal quarantine. The Brazilian State of Santa Catarina’s veterinary services implements Federal animal health programs at the field level in coordination with the Companhia Integrada de Desenvolvimento Agricola de Santa Catarina (CIDASC), an integrated public company. Regional and local officers of the official state veterinary services are part of the CIDASC. The work of CIDASC is subject to inspection and auditing by MAPA. APHIS considers that MAPA and the Brazilian State of Santa Catarina have sufficient legal authority to carry out official disease control, eradication, and quarantine activities.

Review of veterinary infrastructure with MAPA and CIDASC officials demonstrated an infrastructure adequate for carrying out surveillance programs in Santa Catarina and for rapidly detecting FMD, CSF, ASF, and SVD. The technical infrastructure is adequate, and officials use advanced technologies to conduct animal health programs. Santa Catarina’s local veterinary unit offices are adequately staffed, with strong local contacts, coverage, and control mechanisms. Personnel appeared to be adequately trained in identifying the clinical signs of FMD, SVD, ASF, and CSF. Local veterinary units also regularly provide information on disease signs and reporting requirements to producers within their coverage area. The private sector is strongly committed to general animal health activities as well as disease eradication and traceability (identification) systems, and shows its support by substantial financial contributions. With regard to indemnity procedures, we concluded that sufficient funds are available to compensate owners for depopulated, exposed, and affected animals. The Federal authorities provide money for payments from the national treasury, and money also comes from private indemnity funds created and administered by producers.

Disease Status in the Region

There is no evidence of any FMD, CSF, SVD, or ASF infections or outbreaks in Santa Catarina. No outbreaks of FMD have occurred in Santa Catarina since 1993, and the World Organization for Animal Health (OIE) recognized Santa Catarina as free of FMD without vaccination in 2007. No outbreaks of ASF have occurred in Santa Catarina since 1981, and no outbreaks of CSF have occurred in Santa Catarina since 1990. SVD has never occurred in Brazil.

Disease Status of Adjacent Regions and Separation Measures

Adjacent regions that were considered in our risk analysis were the Brazilian States of Rio Grande Do Sul and Paraná and the neighboring country of Argentina. Santa Catarina is surrounded by the Brazilian States of Rio Grande Do Sul and Paraná, both recognized by the OIE as free of FMD with vaccination. The last FMD outbreak in Rio Grande Do Sul occurred in 2001, and the last FMD outbreak in Paraná occurred in 2005. FMD outbreaks in Rio Grande Do Sul in 2000 and 2001 were linked to outbreaks in Uruguay and Argentina. Argentina borders Santa Catarina, Rio Grande Do Sul, and Paraná. Numerous FMD outbreaks occurred throughout Argentina from July 2000 through December 2000 and March 2001 through January 2002. The most recent FMD outbreak in Argentina was reported in 2006. Brazil appears to have successfully prevented the introduction of FMD from Argentina during some but not all outbreaks in that country.

Santa Catarina is located within a CSF-free zone in southern Brazil, as are both States adjoining Santa Catarina. No cases of CSF have been detected in the CSF-free zone since it was created in 2001. Although CSF has been detected in recent years in the CSF-infected zone in northern Brazil, movement controls in place between the CSF-infected and CSF-free zones have prevented introduction of the disease into the CSF-free area. The last reported case of CSF in Argentina occurred in 1999, and CSF does not appear to be circulating within Argentina at this time; therefore, it is not likely that transmission of disease would occur from this source.

Brazil has had no outbreaks of ASF since 1981 and has been declared officially free of ASF since 1984. ASF has never been reported in Argentina. Therefore, it is highly unlikely that the virus exists in areas neighboring Santa Catarina or that these areas pose a risk for disease transmission. SVD has never been reported anywhere within Brazil or Argentina.

Disease Control Programs

Brazil’s animal health service has a surveillance system that covers the entire country and has activities designed to detect and prevent the introduction of FMD, CSF, ASF, and SVD and quickly eradicate them. APHIS considers that Santa Catarina has a control program and a national plan sufficient to respond quickly to any emergencies related to FMD, CSF, ASF, and SVD. All official service field staff, community participants, and private sector veterinarians are trained and required to look for signs of notifiable diseases, including FMD, CSF, ASF, and SVD. Santa Catarina maintains a surveillance program at the field level on farms, in slaughterhouses, and at animal gathering locations. Local veterinary unit personnel carry out special visits to certain herds that are classified as “risky” by the official service. Animals are individually inspected by personnel from the official service for signs of vesicular disease before slaughtering. Other body parts, including the tongue and feet, are examined during postmortem inspection. All animals coming into fairs, auctions, or exhibitions are clinically inspected by the official veterinarians.

When a notifiable disease is suspected, Santa Catarina has a structured system of notification and official involvement to investigate. Suspected disease outbreaks must be immediately reported to the local unit or to an authority that would notify the local unit. The suspect premises is immediately quarantined, movement of animals is prohibited, and samples are collected and sent to a laboratory to confirm the diagnosis. All actions are carried out as if the herd is infected until proven otherwise.

Vaccination Status of the Region

Santa Catarina does not vaccinate for FMD, CSF, ASF, or SVD. In the absence of vaccination, it is likely that clinical signs resulting from an incursion of disease would be quickly identified. The Brazilian Ministry of Agriculture may approve emergency CSF or FMD vaccinations if necessary as part of outbreak control measures.

Degree of Separation from Adjacent Regions

A combination of geographical and administrative barriers has prevented the introduction of FMD, CSF, ASF, and SVD into Santa Catarina. The lack of disease history since 2006 for any of the diseases under evaluation in the areas adjacent to Santa Catarina further reduces the likelihood of their introduction.

Geographic barriers limit introduction of diseases into Santa Catarina by impeding the natural and human-mediated movements of animals and animal products. Santa Catarina is bounded on the east by the Atlantic Ocean. The northern border of Santa Catarina, with Paraná, is composed of rivers and the Serra do Mar mountain ridge. The southern border, with Rio Grande do Sul, is defined in large part by rivers. The western border, with the Province of Misiones, Argentina, is defined primarily by a river, the Rio Peperi-Guaçú. In Misiones, the border area is formed mainly by protected natural areas, including the Yaboti Biosphere Reserve.

Administrative barriers provide most of the controls for movements of animals and their products into Santa Catarina. Importation of products is controlled through 67 fixed inspection posts, and movement controls are in place between Santa Catarina and other areas of Brazil to prevent the introduction of FMD and CSF. Movement controls are discussed in greater detail in the next section.

Animal Movement Controls and Biosecurity

Domestic movement controls within Brazil are stringent. The Brazilian Ministry of Agriculture requires that all cattle owners identify their animals with a unique brand. Sheep and swine are identified by a brand or notch in the ear. A system of permits is used by the official veterinary service to control animal movements. Movement restrictions are in place between Santa Catarina and other areas of Brazil affected with FMD or where FMD vaccination is practiced. All animals at risk for FMD must undergo clinical inspection and quarantine at both their points of origin and their destination. Movement restrictions are also in place between the CSF-free zone in southern Brazil, which encompasses Santa Catarina, and the CSF-infected zone in northern Brazil.

Santa Catarina has adequate controls at ports of entry for legal importation of animals and animal products that could carry FMD, CSF, SVD, or ASF. All animals and products must enter and leave Santa Catarina via one of the 67 fixed inspection stations. All imported animals must be accompanied by a zoosanitary certificate. Dairy and breeding animals require individual identification. Imported animals intended for slaughter must be transported in a sealed vehicle and must go to a federally inspected plant. If an animal arrives at the border with clinical signs of disease, it is sent back to the place of origin; however, animals that show signs of FMD are quarantined and tested. All animal products imported into Brazil must have an import permit, comply with all sanitary health requirements, and originate from an establishment approved to export to Brazil. All imported animal products are inspected and must receive authorization from the official veterinarian at the point of entry to be released into Santa Catarina.

Santa Catarina restricts the importation of animals and products at risk of FMD from countries where FMD has occurred. Swine destined for import must originate from a country or region considered free from ASF, SVD, and CSF. Movement controls and biosecurity measures are in place for imports from higher risk areas for CSF.

Brazilian law prohibits all transport of animal products from anywhere in the world without proper permits, and Santa Catarina has a legal framework and authority to deal with the entry of illegal animals or animal products into the State. Airline passengers and luggage are checked for animal and plant products. Shipments arriving by sea are also checked for animals and animal products, while ship passengers receive random checks for the presence of animals and animal products. All prohibited animals and animal products are confiscated and slaughtered or destroyed.

Livestock Demographics and Marketing Practices

Santa Catarina is primarily known for its swine production. The domestic livestock population within Santa Catarina consists of 5,250,000 domestic swine, 2,750,000 cattle, 196,000 sheep, 37,000 goats, and 16,000 farmed wild boar. Most of Santa Catarina’s cattle are dairy cattle.

The majority of Santa Catarina’s swine industry consists of a vertically integrated production system that covers all stages of production from breeding stock to processing. The production system is governed by contract requirements that include biosecurity standards, traceability requirements, required reporting of disease or production problems to the company veterinary representative, and periodic training in disease and production measures. Integrated swine farms receive frequent official veterinarian visits. APHIS finds that controls and biosecurity measures at commercial swine farms effectively mitigate introduction and spread of disease.

During the 2008 site visit, APHIS visited several individual facilities operating within an integrated system, including dairy operations. All the farms visited followed required biosecurity measures, with certified breeding farms following more restrictive biosecurity measures. APHIS finds that Santa Catarina has adequate control of inspection activities within integrated production systems.

Santa Catarina’s animal identification system was fully implemented at the end of 2008. The system is comprehensive and allows officials to trace, from birth to death, the movement of cattle and swine within the State.

Santa Catarina has adequate controls and inspection measures at slaughter facilities and animal concentration points. There are 58 slaughterhouses for swine in Santa Catarina, including 18 federally inspected slaughterhouses and 40 State-inspected slaughterhouses. Santa Catarina contains 97 federally inspected and 60 State-inspected dairy facilities. CIDASC inspects fairs, exhibitions, and events where animals are gathered.

Disease Surveillance Capability

Brazil has a two-phase surveillance system that effectively uses active and passive surveillance. Phase I relies on active surveillance and focuses primarily on serological testing to document freedom from disease. Santa Catarina is currently in Phase II. Phase II, which consists of monitoring, begins once freedom from infection has been established. The main goals in this phase are to prevent the reintroduction of the disease, maintain good sanitary conditions, and provide technical grounds to demonstrate the continual absence of disease and viral activity in the zone. Passive surveillance is the primary type employed in Phase II, although active surveillance is also used. Passive surveillance activities include observations made during: (1) Animal movement control activities and trade of animal products, (2) farm inspections, (3) slaughterhouse inspections, and (4) inspections during livestock fairs. Passive surveillance takes advantage of the community structure in Brazil and relies heavily on the participation of the community. Serological testing complements passive surveillance in specific “high-risk” farms and is also conducted whenever there is a suspicion of disease. The surveillance and monitoring follow OIE guidelines, therefore, APHIS concluded that the serologic sampling is valid and the sampling coverage is adequate.

Diagnostic Laboratory Capability

Brazil has three laboratories, supervised by the Brazilian Ministry of Agriculture, for diagnosing FMD. These are located in Recife (Pernambuco State), Para (Belen State), and Pedro Leopoldo (Minas Gerais State). The Pan-American Foot-and-Mouth Disease Center laboratory in Rio de Janeiro is the reference laboratory. The Recife laboratory also performs routine serology for CSF, and for SVD and ASF if necessary.

Based on our site visits, we concluded that Brazil has the diagnostic capability to adequately test samples for the presence of the FMD, CSF, SVD, and ASF viruses. The laboratories in Recife, Para, and Pedro Leopoldo have adequate quality control activities; adequate laboratory equipment, which is routinely monitored and calibrated; sufficient staff; and an effective and efficient recordkeeping system for storage and retrieval of data. The tests used to investigate evidence of viral activity are consistent with OIE guidelines. The staff members at the facilities visited in 2002 and 2008 were well-trained and motivated. Samples are turned around quickly.

Emergency Response Capability

Brazil has effective disease control and response programs for FMD and other notifiable swine and ruminant diseases. FMD, SVD, CSF, and ASF are notifiable diseases. The Brazilian State of Santa Catarina has a specific contingency plan for immediate, effective action in an animal emergency, and each municipality has a local emergency operational plan. Local emergency plans are detailed, and emergency response kits are extremely well-stocked. If a sanitary emergency or documented disease event occurs, the Brazilian State of Santa Catarina has a legal framework to authorize needed actions and handle animal health emergencies. A notification system ensures a timely emergency response. Once notification of an emergency occurs, the State establishes coordinating committees and emergency animal health technical groups, defines strategies and plans of action, and, when necessary, carries out the appropriate control measures within a timeframe compatible with a state of emergency. Quarantine and movement restriction decisions are made by State officials with input from Federal authorities. Based on observations made during the 2008 site visit, APHIS concludes the Brazilian State of Santa Catarina has the capabilities to respond rapidly and effectively to an animal disease outbreak and limit the spread of the disease should an outbreak occur. Therefore, we are proposing to amend §§ 94.1, 94.8, 94.9, 94.10, and 94.12 to declare the Brazilian State of Santa Catarina to be free of FMD, rinderpest, SVD, CSF, and ASF. This action would relieve restrictions on the importation of live swine, live ruminants, and products from these species under certain conditions from Santa Catarina.

However, because the Brazilian State of Santa Catarina has a common land border with Argentina, a region where FMD exists, the importation of meat and other products from ruminants or swine into the United States from Santa Catarina would continue to be subject to certain restrictions. For this reason, we are proposing to add Santa Catarina to the list in § 94.11(a) of regions declared free of rinderpest and FMD but that are subject to special restrictions on the importation of their meat and other animal products into the United States. The regions listed in § 94.11(a) are subject to these special restrictions because they: (1) Supplement their national meat supply by importing fresh (chilled or frozen) meat of ruminants or swine from regions that are designated in § 94.1(a) as regions where rinderpest or FMD exists, (2) have a common land border with regions where rinderpest or FMD exists, or (3) import ruminants or swine from regions where rinderpest or FMD exists under conditions less restrictive than would be acceptable for importation into the United States.

Under § 94.11, meat and other animal products of ruminants and swine, including ship stores, airplane meals, and baggage containing these meat or animal products, may not be imported into the United States except in accordance with § 94.11 and the applicable requirements of the USDA’s Food Safety and Inspection Service at 9 CFR chapter III.

Section 94.11 generally requires that the meat and other animal products of ruminants and swine be: (1) Prepared in an inspected establishment that is eligible to have its products imported into the United States under the Federal Meat Inspection Act; and (2) accompanied by an additional certificate, issued by a full-time salaried veterinary official of the national government of the exporting region, assuring that the meat or other animal products have not been commingled with or exposed to meat or other animal products originating in, imported from, transported through, or that have otherwise been in a region where rinderpest or FMD exists.

Executive Order 12866 and Regulatory Flexibility Act

This proposed rule has been determined to be not significant for the purposes of Executive Order 12866 and, therefore, has not been reviewed by the Office of Management and Budget.

We have prepared an economic analysis for this proposed rule. The economic analysis examines the potential economic effects of this action on small entities, as required by the Regulatory Flexibility Act. The proposed action is not expected to result in beef or other ruminant meat exports to the United States of any appreciable quantity and trade effects for pork products are likely to be insignificant. The analysis, however, identifies swine producers and slaughter facilities as the small entities most likely to be affected by this action and considers the effects of increased imports of pork. Based on the information presented in the analysis, we expect that swine producers and slaughter facilities would experience minimal economic effects from the small increase of pork imports (a net increase of less than 3 percent) as a result of this action. Based on the information presented in the analysis, APHIS certifies that the proposed rule, if promulgated, will not have a significant economic impact on a substantial number of small entities. We invite comment on our economic analysis, which is posted with this proposed rule on the Regulations.gov Web site (see ADDRESSES above for instructions for accessing Regulations.gov) and may be obtained from the person listed under FOR FURTHER INFORMATION CONTACT.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

National Environmental Policy Act

To provide the public with documentation of APHIS’ review and analysis of any potential environmental impacts associated with the proposed rule for updating the disease status of Santa Catarina, we have prepared an environmental assessment. The environmental assessment was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

The environmental assessment may be viewed on the Regulations.gov Web site or in our reading room. (A link to Regulations.gov and information on the location and hours of the reading room are provided under the heading ADDRESSES at the beginning of this proposed rule.) In addition, copies may be obtained by calling or writing to the individual listed under FOR FURTHER INFORMATION CONTACT.

Paperwork Reduction Act

This proposed rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we propose to amend 9 CFR part 94 as follows:

PART 94—RINDERPEST, FOOT-AND-MOUTH DISEASE, EXOTIC NEWCASTLE DISEASE, AFRICAN SWINE FEVER, CLASSICAL SWINE FEVER, SWINE VESICULAR DISEASE, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

§ 94.1 [Amended]

2. In § 94.1, paragraph (a)(2) is amended by adding the words “the Brazilian State of Santa Catarina,” after the word “Bermuda,”.

§ 94.8 [Amended]

3. In § 94.8, the introductory text is amended by adding the words “(except the State of Santa Catarina)” after the word “Brazil”.

§ 94.9 [Amended]

4. In § 94.9, paragraph (a) is amended by adding the words “the Brazilian State of Santa Catarina;” after the word “Australia;”.

§ 94.10 [Amended]

5. In § 94.10, paragraph (a) is amended by adding the words “the Brazilian State of Santa Catarina;” after the word “Australia;”.

§ 94.11 [Amended]

6. In § 94.11, paragraph (a) is amended by adding the words “the Brazilian State of Santa Catarina,” after the word “Belgium,”.

§ 94.12 [Amended]

7. In § 94.12, paragraph (a) is amended by adding the words “the Brazilian State of Santa Catarina;” after the word “Belgium,”.

Done in Washington, DC, this 12th day of April 2010.

Cindy Smith
Administrator, Animal and Plant Health Inspection Service.

[FR Doc. 2010-8765 Filed 4-15-10: 8:45 am]

BILLING CODE 3410-34-S